DEPARTMENT OF COMMERCE

National Oceanic and Atmospheric Administration

Agency Information Collection Activities; Submission to the Office of Management and Budget (OMB) for Review and Approval; Comment Request; West Coast Region Groundfish Trawl Fishery Monitoring and Catch Accounting Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 22, 2020 (85 FR 83517) during a 60-day comment period. This notice allows for an additional 30 days for public comments.

Agency: National Oceanic & Atmospheric Administration (NOAA), Commerce.

Title: West Coast Region Groundfish Trawl Fishery Monitoring and Catch Accounting Program.

OMB Control Number: 0648-0619.

Form Number(s): None.

Type of Request: Regular submission (extension of a current information collection).

Number of Respondents: 153

Average Hours per Response: For 5 existing observer providers: 2 hours for preparation and submission of the annual observer provider permit renewal application. For 1 new observer provider: 10 hours for observer provider permit application preparation and submission. For 1 observer provider: 4 hours for a written response and submission of an appeal if an observer provider permit is denied. For 45 catch monitors: 1 hour for submission of qualifications to work as a catch monitor. For 5 catch monitors: 4 hours for a written response and submission of an appeal if a catch monitor permit is denied. For 16 vessels in the Mothership or Catcher/Processor fleet, 30 minutes or less for satisfying requirements for use of at-sea scales, including daily testing reports (30 minutes), daily catch and cumulative weight reports (10 minutes), audit trail (1 minute), calibration log (2 minutes), and fault log (3 minutes).

Total Annual Burden Hours: 447 hours.

Needs and Uses: As part of its fishery management responsibilities, the National Marine Fisheries Service (NMFS) collects information to determine the amount and type of catch taken by fishing vessels. This collection supports monitoring requirements including scale test requirements for first receivers in the Pacific Coast groundfish fishery's shorebased individual fishery quota (IFQ) program; and mothership and catcher/processors in the at-sea whiting fisheries. The collection also supports permits for businesses that provide certified observer and certified catch monitor services. The respondents are principally shorebased first receivers, catch monitor and observer service providers, mothership processors, and catcher/processors, which are companies/partnerships.

Affected Public: Business or other for-profit organizations.

Frequency: Reporting on occasion, daily, weekly, or annually.

Respondent's Obligation: Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0619.

Sheleen Dumas,
Department PRA Clearance Officer, Office of the Chief Information Officer, Commerce Department.

[FR Doc. 2021-07743 Filed 4-14-21; 8:45 am]

BILLING CODE 3510-22-P